INTERNATIONAL TRADE COMMISSION

[Investigation No. 337-TA-1121]

Certain Earpiece Devices and Components Thereof: Notice of a Commission Determination Not To Review an Initial Determination Granting a Motion for Leave To Amend the Complaint and Notice of Investigation

AGENCY: U.S. International Trade Commission.

ACTION: Notice.

SUMMARY: Notice is hereby given that the U.S. International Trade Commission has determined not to review an initial determination (“ID”) (Order No. 10) of the presiding administrative law judge (“ALJ”), granting complainant's motion for leave to amend the complaint and Notice of Investigation to correct the name and/or address of two existing respondents.

FOR FURTHER INFORMATION CONTACT: Cathy Chen, Esq., Office of the General Counsel, U.S. International Trade Commission, 500 E Street SW, Washington, DC 20436, telephone (202) 205-2392. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 29, 2018, based on a complaint filed on behalf of Bose Corporation of Framingham, Massachusetts (“Bose”). 83 FR 30,776 (Jun. 29, 2018). The complaint alleges violations of Section 337 of the Tariff Act of 1930, as amended, 19 U.S.C. 1337 (“section 337”), based upon the importation into the United States, the sale for importation, and the sale within the United States after importation of certain earpiece devices and components thereof by reason of infringement of one or more of U.S. Patent Nos.: 9,036,852; 9,036,853; 9,042,590; 8,311,253; 8,249,287; and 9,398,364. The complaint further alleges that an industry in the United States exists as required by section 337. The Notice of Investigation named numerous respondents, including iHip of Edison, New Jersey; and SMARTOMI Products, Inc. (“Smartomi”) of Ontario, Canada. The Office of Unfair Import Investigations (“OUII”) was named as a party in this investigation.

On October 4, 2018, Bose filed a motion to amend the notice of investigation and for leave to file an amended complaint in order to correct the name and/or address of two existing respondents. Order No. 10 at 1 (Oct. 29, 2018). Specifically, Bose sought to correct the name of respondent iHip to Zeikos, Inc., and to correct the name of respondent Smartomi to V4ink, Inc. (“V4ink”). Id. Bose also sought to correct the address of the latter respondent because the Smartomi address cited in the original complaint, 2760 E Philadelphia Street, Ontario, Canada 91761, is the registered agent for V4ink. Id. Bose since learned that V4ink's principal place of business is 1251 S Rockfeller Ave Unit B, Ontario, Canada 91761-2238. Id. No response was filed. Id.

On October 29, 2018, the ALJ issued the subject ID granting the motion. Id. at 2. The ALJ found that good cause exists to amend the complaint and notice of investigation, and that there is no evidence of any prejudice to the parties in the investigation. Id. No petitions for review were filed.

The Commission has determined not to review the ID.

The authority for the Commission's determination is contained in section 337 of the Tariff Act of 1930, as amended (19 U.S.C. 1337), and in Part 210 of the Commission's Rules of Practice and Procedure (19 CFR part 210).

By order of the Commission.
Issued: November 23, 2018.
Katherine Hiner,
Supervisory Attorney.

[FR Doc. 2018-25940 Filed 11-27-18; 8:45 am]

BILLING CODE 7020-02-P